DEPARTMENT OF DEFENSE

Department of the Army, Corps of Engineers

Intent To Prepare a Joint Environmental Impact Statement and Environmental Impact Report for the Sutter County Feasibility Study, Sutter County, CA

AGENCY: U.S. Army Corps of Engineers, DoD.

ACTION: Notice of intent.

SUMMARY: The action being taken is a feasibility investigation to (1) address improvements for the existing flood management systems, (2) investigate additional areas of flood protection for Sutter County, and (3) integrate ecosystem restoration. The study area is located within the boundaries of the Sacramento River Flood Control Project in Sutter County and includes the Sacramento, Feather, and Bear Rivers; Natomas Cross Canal; Sutter and Tisdale Bypasses; Wadsworth Canal; Yuba City and communities of Live Oak, Meridian, Robbins, Pleasant Grove, and Nicolaus.

FOR FURTHER INFORMATION CONTACT: Questions about the proposed action and EIS/EIR should be addressed to Liz Holland at (916) 557-6763 or by mail to U.S. Army Corps of Engineers, ATTN CESPK-PD-R, 1325 J Street, Sacramento, California 95814-2922.

SUPPLEMENTARY INFORMATION:

1. Proposed Action

The U.S. Army Corps of Engineers, The Reclamation Board of the State of California, and the County of Sutter are conducting a feasibility investigation. The study focuses on reducing flood damages within the county of Sutter, California. The study area includes the Sacramento, Feather, and Bear Rivers; Sutter and Tisdale Bypasses; Natomas Cross Canal; and Wadsworth Canal. County population centers include Yuba City and the communities of Live Oak, Meridian, Robbins, Pleasant Grove, and Nicolaus.

2. Alternatives

The feasibility report will address an array of alternatives. Alternatives analyzed during the feasibility investigation will be a combination of one or more flood reduction measures identified during the reconnaissance phase; additional measures may be considered. These alternative measures include enlarge existing levees, levee realignment, ring levees, interceptor-levee/channel, reservoir reoperation, floodway protection program, dredging, vegetation management, and bypass reoperation/modification. Although an ecosystem restoration alternative has not been defined at this time, the alternatives currently identified would likely include ecosystem restoration components.

a. No Action. There will be no flood control projects implemented for Sutter County.

b. Enlarge existing levees along the Feather and Sacramento Rivers, and the Natomas Cross Canal.

c. Realign levees along the Feather, Bear, and Sacramento Rivers.

d. Construct a ring levee to the east of Yuba City.

e. Construct a channel or levee intercepting flows above Yuba City.

f. Reoperate Feather and Yuba River upstream reservoirs.

g. Adopt local flood plain management plan.

h. Remove sediment from the Sutter Bypass, Feather and Sacramento River, and canal systems.

i. Reoperate State pumps and drain lines.

j. Improve levees along the Sutter Bypass.

k. Modify Tisdale Bypass to convey higher flows earlier.

3. Scoping Process

a. The project study plan provides for a public scoping meeting and comment. The Corps has initiated a process of involving concerned individuals, and local, State, and Federal agencies.

b. Significant issues to be analyzed in depth in the EIS/EIR include appropriate levels of flood damage reduction, adverse effects on vegetation and wildlife resources, special-status species, esthetics, cultural resources, recreation, land use, fisheries, water quality, air quality, transportation, socioeconomic, and cumulative effects of related projects in the study area.

c. The Corps will consult with the State Historic preservation Officer, and the U.S. Fish and Wildlife Service to provide a Fish and Wildlife Coordination Act Report as an appendix to the EIS/EIR.

d. A 45-day public review period will be provided for individuals and agencies to review and comment on the draft EIS/EIR. All interested parties are encouraged to respond to this notice and provide a current address if they wish to be notified of the EIS/EIR circulation.

4. Availability

The draft EIS/EIR is scheduled to be available for public review and comment late in calendar year 2002.

Dated: August 23, 2001.
Colonel Michael J. Conrad, Jr.,
Commanding.

[FR Doc. 01-22916 Filed 9-11-01; 8:45 am]

BILLING CODE 3710-EZ-M